DEPARTMENT OF HEALTH AND HUMAN SERVICES

Centers for Disease Control and Prevention

[30 DAY-17-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: The Role of Positive and Negative Emotion in Promoting Hearing Conservation Behaviors Among Coal Miners—New—The mission of the National Institute for Occupational Safety and Health (NIOSH), Centers for Disease Control and Prevention (CDC) is to promote “safety and health at work for all people through research and prevention.” NIOSH investigates and identifies occupational safety and health hazards and conducts a variety of activities, including educational programs with workers, to help prevent work-related illness and injury.

One of the most widespread, but often overlooked, occupational hazards is noise. As a result, hearing loss is the most common occupational disease in the United States today. More than 30 million workers are exposed to hazardous noise levels. The risk of hearing loss is particularly high in certain occupations. Research shows that more than 90 percent of coal miners will experience moderate to significant hearing loss by the time they reach retirement. This level of hearing loss has a number of negative implications for both the affected individual and others: (1) Impaired communication with family members, friends, and coworkers can result in social isolation; (2) unrelenting tinnitus (ringing in the ears) can significantly lower one's quality of life; (3) a diminished ability to monitor the work environment (including warning signals, etc.) increases the risk of accidents and further injury at the workplace; and, finally, (4) there are economic costs that result from workers' compensation and lower productivity.

New noise standards for the mining environment have recently been issued by the Department of Labor and will go into effect in September 2000. The new rules require that mine operators take necessary action to protect miners' hearing when noise levels reach 85 dBA or more over an eight-hour period with additional actions required at 90 dBA. While the new standard establishes mandatory behaviors, such as the wearing of both ear plug and earmuff-type hearing protectors at noise levels of 105 dBA or more over an eight-hour period, there are also voluntary behaviors associated with the new rules. The wearing of hearing protectors at levels below 90 dBA and getting hearing tests as part of a hearing conservation program are both voluntary on the part of the individual miner.

This study is designed to ascertain factors that can be used to encourage adoption of voluntary behaviors among coal miners. The choice of this subset of miners is based upon research that indicates they experience significantly more hearing loss than metal and nonmetal miners. NIOSH proposes working with the United Mine Workers of America and experts in health communication to test the effectiveness of several innovative approaches to communicating hearing loss risk and promoting self-protective behaviors. Different messages will be sent to four different groups of coal miners, and there will be one control group that receives no message. The researchers will follow up with these groups at two different points in time to assess the relative effectiveness of the messages.

The central purpose of this study is to promote hearing conservation among coal miners and encourage the adoption of the voluntary components of the new noise standard. However, NIOSH believes that the results of this study will help in similar efforts with other worker populations. The total burden for this project is 230 hours.

Respondents | Number of respondents | Number of responses/respondent (in hrs.) | Average burden per response (in hrs.)
Coal miners in pretest | 80 | 1 | 60/60
Coal miners in study | 300 | 2 | 15/60

Dated: January 25, 2001.
Nancy E. Cheal,
Acting Associate Director for Policy, Planning and Evaluation, Centers for Disease Control and Prevention.

[FR Doc. 01-2651 Filed 1-30-01; 8:45 am]

BILLING CODE 4163-18-P